DEPARTMENT OF HEALTH AND HUMAN SERVICES

National Institutes of Health

National Institute of Child Health and Human Development Submission for OMB Review; Comment Request; Health Behaviors in School-Age Children

SUMMARY: Under the provisions of Section 3507(a)(1)(D) of the Paperwork Reduction Act of 1995, the National Institute of Child Health and Human Development (NICHD), the National Institutes of Health (NIH) has submitted to the Office of Management and Budget (OMB) a request for review and approval of the information collection listed below. This extension of data collection was previously published in the Federal Register on September 12, 2008, Volume 73, Number 128, pages 53030-53031 and allowed 60 days for public comment. One public comment was received asking for a copy of the data collection plans for the proposed collection. The purpose of this notice is to allow an additional 30 days for public comment. The National Institutes of Health may not conduct or sponsor, and the respondent is not required to respond to, an information collection that has been extended, revised, or implemented on or after October 1, 1995, unless it displays a currently valid OMB control number.

Submission for OMB Review; Comment Request

Title: Health Behaviors in School-Age Children—United States.

Type of Information Collection Request: Extension.

Need and Use of Information Collection: The goal of this research is to obtain data from a survey of adolescent health behavior conducted in the United States with a national probability sample of adolescents. This information will enable the improvement of health services and programs for youth. The study should provide needed information about adolescents nationally and will also enable international comparisons.

This U.S. survey is linked to the broader Health Behaviors in School-Age Children (HBSC) study, in which surveys are conducted every four years among nationally representative samples of students at ages 11, 13, and 15 years of age in 40 countries. The HBSC was conducted in the U.S. previously in 1997/1998, 2001/2002, and 2005/2006. Data from previous surveys have been used to identify adolescent health problem areas, develop programs to address these problems, and evaluate existing programs. The 2009/2010 U.S. survey will address a sample of health-related factors according to rigorous research protocols developed by the HBSC. The international HBSC survey requires at least 1,536 youth in each age group and a total of 5,000 students. In the U.S., a nationally representative sample of children in grades 6 through 10 will be surveyed and minority children will be over-sampled to permit comparisons across under-represented populations. The children will be students from approximately 386 schools; in order to assess health programs in those schools and how the school environment supports health behaviors, a school administrator from each school will be surveyed.

Affected Public: School-age children.

Type of respondents | Estimated number of respondents | Estimated number of responses per respondent | Average burden hours per response | Estimated total annual burden hours requested
Adolescents | 14,672 | 1 | 0.75 | 11,004
School Administrators | 386 | 1 | 0.33 | 127

The estimated annualized cost to respondents is $5,392. There are no Capital Costs to report. There are no Operating or Maintenance Costs to report.

Request for Comments: Written comments and/or suggestions from the public and affected agencies are invited on one or more of the following points: (1) Whether the extension of data collection of information is necessary for the proper performance of the function of the agency, including whether the information will have practical utility; (2) The accuracy of the agency's estimate of the burden of the extension of data collection of information, including the validity of the methodology and assumptions used; (3) Ways to minimize the burden of the collection of information on those who are to respond, including the use of appropriate automated, electronic, mechanical, or other technological collection techniques or other forms of information technology.

FOR FURTHER INFORMATION CONTACT: Written comments and/or suggestions regarding the item(s) contained in this notice, especially regarding the estimated public burden and associated response time, should be directed to: OIRA_submission@omb.eop.gov or by fax to 202-395-6974. To request more information on the extension of data collection or to obtain a copy of the data collection plans and instruments, contact Dr. Ronald J. Iannotti, Prevention Research Branch, Division of Epidemiology, Statistics, and Prevention Research, Eunice Kennedy Shriver National Institute of Child Health and Human Development, Building 6100, 7B05, 9000 Rockville Pike, Bethesda, Maryland 20892-7510, or call non-toll free number 301-496-5674 or E-mail your request, including your address to ri25j@nih.gov.

Comments Due Date: Comments regarding this information collection are best assured of having their full effect if received within 30 days of the date of this publication.

Dated: November 12, 2008.
Paul L. Johnson,
Project Clearance Liaison, NICHD, National Institutes of Health.

[FR Doc. E8-27792 Filed 11-21-08; 8:45 am]

BILLING CODE 4140-01-P